NUCLEAR REGULATORY COMMISSION

[Docket No. 50-397; NRC-2014-0010; NRC-2014-0189]

Energy Northwest, Columbia Generating Station

AGENCY: Nuclear Regulatory Commission.

ACTION: License amendment application; withdrawal by applicant.

SUMMARY: The U.S. Nuclear Regulatory Commission (NRC) has granted the request of Energy Northwest (the licensee) to withdraw its application dated October 2, 2013, as supplemented by letters dated June 19 and November 17, 2014, for a proposed amendment to Renewed Facility Operating License No. NPF-21. The proposed amendment would have revised the Technical Specifications (TS) for the Columbia Generating Station to incorporate TS Task Force (TSTF) Traveler TSTF-493, Revision 4, “Clarify Application of Setpoint Methodology for LSSS [limiting safety system settings] Functions,” Option A.

DATES: Notice of withdrawal of license amendment application given on January 21, 2015.

ADDRESSES: Please refer to Docket IDs NRC-2014-0010 and NRC-2014-0189 when contacting the NRC about the availability of information regarding this document. You may obtain publicly-available information related to this document using any of the following methods:

• Federal Rulemaking Web site: Go to http://www.regulations.gov and search for Docket IDs NRC-2014-0010 and NRC-2014-0189. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Andrea E. George, Office of Nuclear Reactor Regulation, U.S. Nuclear Regulatory Commission, Washington, DC 20555-0001; telephone: 301-415-1081, email: Andrea.George@nrc.gov.

SUPPLEMENTARY INFORMATION: The NRC has granted the request of Energy Northwest to withdrawal its application dated October 2, 2013, as supplemented by letters dated June 19 and November 17, 2014 (ADAMS Accession Nos. ML13284A063, ML14188B450, and ML14335A320, respectively), for a proposed amendment to the Columbia Generating Station's TS, located in Benton County, Washington. The proposed change would have revised the TS to incorporate TSTF-493, Revision 4, Option A, by adding footnotes to certain TS Surveillance Requirements. The availability of this TS improvement was announced in the Federal Register on May 11, 2010 (75 FR 26294).

The NRC published a Biweekly Notice in the Federal Register on January 21, 2014 (79 FR 3415), that gave notice that this proposed amendment was under consideration by the NRC. Due to an increase in scope of the proposed amendment from an application supplement, the amendment was republished in a Biweekly Notice in the Federal Register on August 19, 2014 (79 FR 49107). However, by letter dated December 9, 2014 (ADAMS Accession No. ML14349A494), the licensee requested to withdraw the proposed amendment.

Dated at Rockville, Maryland, this 13th day of January 2015.
For the Nuclear Regulatory Commission.
Andrea E. George,
Project Manager, Plant Licensing Branch IV-1, Division of Operating Reactor Licensing, Office of Nuclear Reactor Regulation.

[FR Doc. 2015-00927 Filed 1-20-15; 8:45 am]

BILLING CODE 7590-01-P